DEPARTMENT OF HEALTH AND HUMAN SERVICES

[Document Identifier OS-0955-0002]

Agency Information Collection Request. 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number and the document identifier OS-0955-0002, to Information.CollectionClearance@hhs.gov or call the Information Collection Clearance Office on (202) 690-6162. Comments and recommendations for the proposed information collection must be received within 60 days of the issuance of this notice.

Proposed Project: Facts for Consumers about Health IT Service Providers (Revision)—OMB No. 0955-0002-OS/Office of the National Coordinator for Health Information Technology

Abstract: ONC is proposing to revise current OMB approved Facts for Consumers about Health IT Service Providers. The current OMB approval is applicable through September 30, 2012. It includes iterative rounds of in-depth consumer testing to assess and analyze consumer understanding and input about a model privacy notice for personal health records (PHRs). ONC intends to revise the project to use the same focus group and cognitive usability interview testing process for the development of a model notice of privacy practices (NPP). 45 CFR 164.520 requires covered entities to make available a NPP for protected health information to their patients or health plan members. The notice must, among other things, outline the purposes for which the covered entity is permitted to use and disclose health information, the rights of individuals with respect to their health information, the entities' duties to protect that information, and the process for filing a complaint concerning possible violations of the HIPAA Privacy Rule, such as an improper use or disclosure of information. 45 CFR 164.520 requires that the notice be written in plain language, but studies have shown that these notices are often difficult for patients to understand due to their length and complexity.

The Federal Health IT Strategic Plan identifies the Fair Information Practice Principles (FIPPS) an important guidepost in the development of privacy policies and programs. Openness and Transparency is a key principle of fair information practices. The NPP is an important component of fulfilling this principle. If patients cannot adequately understand the notice because of its length or complexity, then the use and disclosure of their health information is not open and transparent.

In addition, each participant will have been recruited through a 15-minute screening interview. The participants will be recruited according to U.S. census statistics for race/ethnicity, age, marital status, gender, and income.

Estimated Annualized Burden Table
Forms (if necessary) | Type of respondent | Number of respondents | Number of responses per respondent | Average burden hours per response | Total burden hours
Cognitive Testing Screening | General Public | 84 | 1 | 15/60 | 21
Cognitive Testing | General Public | 42 | 1 | 90/60 | 63
Total |  | 126 |  |  | 84

Keith A. Tucker,
Information Collection Clearance Officer, Department of Health and Human Services.

[FR Doc. 2012-21103 Filed 8-27-12; 8:45 am]

BILLING CODE 4150-45-P